DEPARTMENT OF LABOR

Employment and Training Administration

[TA-W-80,207]

Tecumseh Products Corporation, Ann Arbor, MI; Notice of Termination of Investigation

On September 15, 2011, the Department issued a Notice of Affirmative Determination Regarding Application for Reconsideration applicable to workers and former workers of Tecumseh Products Corporation, Ann Arbor, Michigan. The Department's Notice was published in the Federal Register on September 23, 2011 (76 FR 59176). Workers at the subject firm are engaged in activities related to the production of refrigerator compressors.

The work who requested administrative reconsideration pursuant to 29 CFR 90.18 has withdrawn the request. Consequently, the investigation has been terminated.

Signed in Washington, DC, this 15th day of December, 2011.
Del Min Amy Chen,
Certifying Officer, Office of Trade Adjustment Assistance.

[FR Doc. 2011-33330 Filed 12-28-11; 8:45 am]

BILLING CODE 4510-FN-P